DEPARTMENT OF HEALTH AND HUMAN SERVICES

Office of Refugee Resettlement

Announcing the Award of a Single-Source Grant to Support Services for Haitian Medical Evacuees to the Florida Department of Children and Families in St. Petersburg, FL

AGENCY: Office of Refugee Resettlement, ACF, HHS.

ACTION: Notice to award a single-source grant to support medical evacuees from the Haiti earthquake of 2010.

CFDA Number: 93.576.

Statutory Authority: This grant is authorized by the Supplemental Appropriations Act, 2010 (Pub. L. 111-212).

SUMMARY: Notice is hereby given that a single-source grant of $220,000 was awarded to Florida Department of Children and Families, located in St. Petersburg, FL, by the Administration for Children and Families, Office of Refugee Resettlement. Award funds will provide medical and supportive social services to Haitian medical evacuees affected by the earthquake in 2010.

The Haitian medical evacuees were brought to the United States (U.S.) in the aftermath of the earthquake in Haiti on January 12, 2010. This is a population that arrived in the U.S. with significant medical issues and no available system for ongoing medical and supportive social services. They had sustained a wide range of injuries, including burns, crush injuries, and head and spine injuries. During Fiscal Year 2010, the refugees' medical costs for their first 8 months in Florida totaled $6.2 million. The single-source award will provide urgently needed support to this group, which are currently residing in a tent complex in St. Petersburg, FL.

DATES: October 1, 2011-September 30, 2012.

FOR FURTHER INFORMATION CONTACT: Kenneth Tota, Deputy Director, Office of Refugee Resettlement, 901 D Street SW., Washington, DC 20047. Telephone: (202) 401-4858. Email: ktota@acf.hhs.gov.

Dated: December 6, 2011.
Eskinder Negash,
Director, Office of Refugee Resettlement.

[FR Doc. 2011-32168 Filed 12-14-11; 8:45 am]

BILLING CODE 4120-27-P